DEPARTMENT OF THE INTERIOR

National Park Service

[NPS-WASO-NRNHL-24577; PPWOCRADI0, PCU00RP14.R50000]

National Register of Historic Places; Notification of Pending Nominations and Related Actions

AGENCY: National Park Service, Interior.

ACTION: Notice.

SUMMARY: The National Park Service is soliciting comments on the significance of properties nominated before October 28, 2017, for listing or related actions in the National Register of Historic Places.

DATES: Comments should be submitted by November 29, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before October 28, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Chambers County

Bethlehem Baptist Church, S corner of River & White's Mill Rds., Valley, SG100001875

Colbert County

St. John's Episcopal Church, 300 N Dickson St., Tuscumbia, SG100001876

Lauderdale County

Lindsay, Maud, Free Kindergarten, 227 Enterprise St., Florence, SG100001877

Mobile County

Dauphin Island School, 1300 Bienville Blvd., Dauphin Island, SG100001878

ARKANSAS

Pulaski County

Governor's Mansion Historic District (Boundary Increase III), Roughly bounded by Wright Ave., W Roosevelt Rd., S State, W 22nd & S Chester Sts., Little Rock, BC100001888

INDIANA

Allen County

Lakeside Historic District, (Historic Residential Suburbs in the United States, 1830-1960 MPS), Roughly bounded by St. Joe Blvd., Edgewater, Tennessee, Crescent & California Aves., Fort Wayne, MP100001879

Lake County

Hobart First Methodist Episcopal Church, 650 & 654 E. 4th St., Hobart, SG100001880

Whitley County

South Whitley Historic District, Roughly bounded by Broad, Calhoun, Wayne & Line Sts., South Whitley, SG100001881

NEW MEXICO

Colfax County

Casa del Gavilan, 570 NM 21 S, 5.7 mi. S of Cimmaron, Cimmaron vicinity, SG100001882

NEW YORK

Erie County

Kreiner Malt House and Grain Elevator, (Buffalo Grain and Materials Elevator MPS), 50 Elk St., Buffalo, MP100001883

Shea's Seneca Building, 2178 Seneca St., Buffalo, SG100001884

Lewis County

Talcottville Cemetery, 2052 NY 12-D, Talcottville, SG100001885

Monroe County

Fairport Public Library, 18 Perrin St., Fairport, SG100001886

Nomination submitted by Federal Preservation Officer:

The State Historic Preservation Officer reviewed the following nomination and responded to the Federal Preservation Officer within 45 days of receipt of the nomination and supports listing the property in the National Register of Historic Places.

RHODE ISLAND

Providence County

United States Post Office Annex, 2 Exchange Terrace, Providence, SG100001887

Authority: 60.13 of 36 CFR part 60.

Dated: October 30, 2017.
J. Paul Loether,
Chief, National Register of Historic Places/National Historic Landmarks Program and Keeper, National Register of Historic Places.

[FR Doc. 2017-24613 Filed 11-13-17; 8:45 am]

BILLING CODE 4312-52-P